DEPARTMENT OF JUSTICE

Notice of Lodging of Proposed Consent Decree

In accordance with Departmental Policy, 28 CFR 50.7, notice is hereby given that a proposed Consent Decree regarding the United States' claims against Defendants in United States v. Philip A. Smith, et al., Case No. 3:10-cv-05364-BHS, was lodged with the United States District Court for the Western District of Washington on October 6, 2011.

This proposed Consent Decree concerns a complaint filed by the United States against Philip A. Smith and Kimberly G. Smith, pursuant to Section 309(b) and (d) of the Clean Water Act, 33 U.S.C. 1319(b) and (d), to obtain injunctive relief from and impose civil penalties against the Defendants for violating the Clean Water Act by discharging pollutants without a permit into waters of the United States. The proposed Consent Decree resolves allegations against the Defendants by requiring Philip A. Smith to pay a contingent civil penalty if certain circumstances arise.

The Department of Justice will accept written comments relating to this proposed Consent Decree for thirty (30) days from the date of publication of this Notice. Please address comments to Kent E. Hanson, U.S. Department of Justice, P.O. Box 23986, Washington, DC 20026-3986 and refer to United States v. Philip A. Smith, et al., DJ #90-5-1-1-18599.

The proposed Consent Decree may be examined at the Clerk's Office, United States District Court for the Western District of Washington, 1717 Pacific Avenue, Room 3100, Tacoma, WA 98402-3200. In addition, the proposed Consent Decree may be viewed at http://www.usdoj.gov/enrd/Consent_Decrees.html.

Cherie L. Rogers,
Assistant Section Chief, Environmental Defense Section, Environment & Natural Resources Division.

[FR Doc. 2011-26517 Filed 10-13-11; 8:45 am]

BILLING CODE P